DEPARTMENT OF VETERANS AFFAIRS

[OMB Control No. 2900-0741]

Proposed Information Collection (Report of Subcontracts to Small and Veteran-Owned Business—VA0896a) Activity: Comment Request

AGENCY: The Department of Veterans Affairs (VA) Office of Small and Disadvantaged Business Utilization (OSDBU).

ACTION: Notice.

SUMMARY: VA OSDBU, is announcing an opportunity for public comment on the proposed collection of certain information by the agency. Under the Paperwork Reduction Act (PRA) of 1995, Federal agencies are required to publish notice in the Federal Register concerning each proposed collection of information, including each proposed revision of a currently approved collection and allow 60 days for public comment in response to the notice. This notice solicits comments on information to be collected by VA through the Form 0896A, which intends to gather information from prime contractors regarding their subcontracts with service-disabled Veteran-owned small businesses (SDVOSB) and Veteran-owned small businesses (VOSB). This collection is in accordance with Public Law 109-461, Title V, Section 502(a)(1), codified at 38 U.S.C. 8127(a)(4).

DATES: Written comments and recommendations on the proposed collection of information should be received on or before February 8, 2016.

ADDRESSES: Submit written comments on the collection of information through Federal Docket Management System (FDMS) at www.Regulations.gov or to Milagros Ortiz, OSDBU, (OOSB) or email to: milagros.ortiz@va.gov or phone at (202) 461-4279. Please refer to “OMB Control No. 2900-0741 (Report of Subcontracts to Small and Veteran-Owned Business—VA0896a)” in any correspondence. During the comment period, comments may be viewed online through FDMS.

FOR FURTHER INFORMATION CONTACT: Milagros Ortiz, (202) 462-4279-7492 or milagros.ortiz@va.gov.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OMB invites comments on: (1) Whether the proposed collection of information is necessary for the proper performance of OMB's functions, including whether the information will have practical utility; (2) the accuracy of OMB's estimate of the burden of the proposed collection of information; (3) ways to enhance the quality, utility, and clarity of the information to be collected; and (4) ways to minimize the burden of the collection of information on respondents, including through the use of automated collection techniques or the use of other forms of information technology.

Title: Report of Subcontracts to Small and Veteran-Owned Business.

OMB Control Number: 2900-0741.

Type of Review: Revision of a currently approved collection.

Abstract: In accordance with Public Law 109-461, Title V, Section 502(a)(1), codified at 38 U.S.C. 8127(a)(4), the Office of Small and Disadvantaged Business Utilization (OSDBU) will use the VA Form 0896a to collect information from subcontractors to compare information obtained from subcontracting plans submitted by prime contractors in order to determine the accuracy of the data reported by prime contractors. The form has been modified to allow the collection of information from multiple subcontractors in the same form.

Affected Public: VA Prime Contractors.

Estimated Annual Burden: 610 hours.

Estimated Average Burden per Respondent: 2 hours.

Frequency of Response: Once a year.

Estimated Number of Respondents: 305.

By direction of the Secretary.
Kathleen M. Manwell,
Program Analyst, VA Privacy Service, Office of Privacy and Records Management, Department of Veterans Affairs.

[FR Doc. 2015-31155 Filed 12-9-15; 8:45 am]

BILLING CODE 8320-01-P